DEPARTMENT OF AGRICULTURE

Submission for OMB Review; Comment Request

June 25, 2018.

The Department of Agriculture has submitted the following information collection requirement(s) to OMB for review and clearance under the Paperwork Reduction Act of 1995, Public Law 104-13. Comments are requested regarding (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by July 30, 2018 will be considered. Written comments should be addressed to: Desk Officer for Agriculture, Office of Information and Regulatory Affairs, Office of Management and Budget (OMB), New Executive Office Building, 725 17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Animal and Plant Health Inspection Service

Title: Animal Disease Traceability.

OMB Control Number: 0579-0327.

Summary of Collection: The Animal Health Protection Act of 2002 (7 U.S.C. 8301-8317) is the primary Federal law governing the protection of animal health. The law gives the Secretary of Agriculture broad authority to detect, control, or eradicate pests or diseases of livestock or poultry. As part of its ongoing efforts to safeguard animal health, the U.S. Department of Agriculture's Animal and Plant Health Inspection Service (APHIS) developed the Animal Disease Traceability (ADT) framework which continues to be a partnership involving APHIS, States, Tribes, and industry to provide a system for animal traceability. Traceability helps document the movement history of an animal throughout its life, including during an emergency response or for ongoing animal disease programs.

Need and Use of the Information: APHIS uses information provided by businesses, States, and Tribal Nations to facilitate animal disease traceability and support disease control, eradication, and surveillance activities. Some of the information collection activities include: Applications for use of more than official identification device; applications for and approval of tagging sites; evaluation of States and Tribes; documentation of completion of performance measures; commuter herd agreements; collection of identification devices at slaughter; obtaining official eartags; application of State shields; official identification device distribution records; certification of veterinary inspection; unauthorized removal or loss of official identification devices; reporting retagging animal records; premises identification and updates; nonproducer participant registration; official identification device applications and approved identification device manufacturer agreements and updates; animal identification number manager registration, agreements, and updates; cooperative agreements; State/Tribe quarterly reports; animal disease tractability road maps; eartag orders; program site tag information; records of tags issues and applied; coordination of tag orders with manufacturers; reporting loss, theft, and misuse of tags; removal or replacement of eartags; and recordkeeping. If this information was not collected, APHIS' ability to address traceability needs would be significantly hampered.

Description of Respondents: State, Local, or Tribal Government; Businesses.

Number of Respondents: 275,622.

Frequency of Responses: Recordkeeping; Third-Party Disclosure; Reporting: On occasion.

Total Burden Hours: 1,314,736.

Ruth Brown,
Departmental Information Collection Clearance Officer.

[FR Doc. 2018-13929 Filed 6-27-18; 8:45 am]

BILLING CODE 3410-34-P